NUCLEAR REGULATORY COMMISSION

[Docket No. 70-1257; NRC-2009-0028]

Notice of Issuance of Amendment No. 1 for Special Nuclear Material License No. SNM-1227 [AREVA NP, Inc., Richland, WA]

AGENCY: Nuclear Regulatory Commission.

ACTION: Notice of issuance of license amendment.

FOR FURTHER INFORMATION CONTACT: Rafael L. Rodriguez, Project Manager, Fuel Manufacturing Branch, Division of Fuel Cycle Safety and Safeguards, Office of Nuclear Material Safety and Safeguards, U.S. Nuclear Regulatory Commission, Rockville, MD 20852. Telephone: (301) 492-3111; Fax Number: (301) 492-3363; E-mail: Rafael.Rodriguez@nrc.gov.

SUPPLEMENTARY INFORMATION:

I. Introduction

By letter dated June 12, 2008, to the U.S. Nuclear Regulatory Commission (NRC), AREVA NP, Inc. (AREVA) requested approval of an amendment to its Special Nuclear Material License No. SNM-1227 which would authorize AREVA to install and operate a new process at its fuel fabrication facility in Richland, Washington, that will use supercritical carbon dioxide to extract uranium from waste material that contains a relatively low percentage of uranium. This submittal was revised and resubmitted by AREVA on August 22, 2008, to reflect the required portion marking set forth in Title 10 of the Code of Federal Regulations (10 CFR) 2.390(b). Pursuant to the requirements in 10 CFR 2.106, the NRC is providing notice that Amendment No. 1 for Special Nuclear Material License No. SNM-1227 has been issued. AREVA's request for the proposed amendment was previously noticed, and an opportunity to request a hearing was provided in the Federal Register on January 16, 2009 (74 FR 3110-3114). The NRC staff evaluated AREVA's license amendment request and concluded that it meets the regulatory criteria for a categorical exclusion, as described in 10 CFR 51.22(c)(11). This conclusion is documented in the NRC staff's Safety Evaluation Report (SER).

This license amendment complies with the standards and requirements of the Atomic Energy Act of 1954, as amended, and NRC's rules and regulations as set forth in 10 CFR Chapter 1. Accordingly, this license was amended on July 28, 2010, and is effective immediately.

II. Further Information

The NRC has prepared an SER that documents the information that was reviewed and the NRC's conclusion. In accordance with 10 CFR 2.390 of the NRC's “Rules of Practice,” details with respect to this action, including the SER and accompanying documentation included in the license package, are available electronically at the NRC's Electronic Reading Room at http://www.nrc.gov/reading-rm/adams.html. From this site, you can access the NRC's Agencywide Documents Access and Management System (ADAMS), which provides text and image files of NRC's public documents. The ADAMS accession numbers for the public version of the documents related to this notice are:

(a) June 12, 2008, Original License Amendment Application: ML081700146;

(b) August 22, 2008, Revised License Amendment Application: ML082420070 and ML082420071;

(c) SER in Support of License Amendment Application: ML101550158; and

(d) Amended Special Nuclear Material License No. SNM-1227: ML101550153.

If you do not have access to ADAMS, or if there are problems in accessing the documents located in ADAMS, contact the NRC's Public Document Room (PDR) Reference staff at 1-800-397-4209, 301-415-4737 or by e-mail to PDR.Resource@nrc.gov.

These documents may also be viewed electronically on the public computers located at the NRC's PDR, O-1 F21, One White Flint North, 11555 Rockville Pike, Rockville, MD 20852. The PDR reproduction contractor will copy documents for a fee.

Dated at Rockville, MD this 16th day of September 2010.
For the Nuclear Regulatory Commission.
Peter J. Habighorst,
Chief, Fuel Manufacturing Branch, Fuel Facility Licensing Directorate, Division of Fuel Cycle Safety and Safeguards, Office of Nuclear Material Safety and Safeguards.

[FR Doc. 2010-23953 Filed 9-23-10; 8:45 am]

BILLING CODE 7590-01-P